DEPARTMENT OF TRANSPORTATION

National Highway Traffic Safety Administration

[Docket No. NHTSA-2014-0113; Notice 1]

Harley-Davidson Motor Company, Inc., Receipt of Petition for Decision of Inconsequential Noncompliance

AGENCY: National Highway Traffic Safety Administration (NHTSA), Department of Transportation (DOT).

ACTION: Receipt of Petition.

SUMMARY: Harley-Davidson Motor Company, Inc. (Harley-Davidson) has determined that certain MY 2015 Harley-Davidson model XG500 and model XG750 motorcycles do not fully comply with table 3, footnote 4, of Federal Motor Vehicle Safety Standard (FMVSS) No. 123, Motorcycle Controls and Displays. Harley-Davidson has filed an appropriate report dated September 3, 2014, pursuant to 49 CFR part 573, Defect and Noncompliance Responsibility and Reports.

DATES: The closing date for comments on the petition is December 22, 2014.

ADDRESSES: Interested persons are invited to submit written data, views, and arguments on this petition. Comments must refer to the docket and notice number cited at the beginning of this notice and submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION: I. Harley-Davidson's Petition: Pursuant to 49 U.S.C. 30118(d) and 30120(h) (see implementing rule at 49 CFR part 556), Harley-Davidson submitted a petition for an exemption from the notification and remedy requirements of 49 U.S.C. Chapter 301 on the basis that this noncompliance is inconsequential to motor vehicle safety.

This notice of receipt of Harley-Davidson's petition is published under 49 U.S.C. 30118 and 30120 and does not represent any agency decision or other exercise of judgment concerning the merits of the petition.

II. Motorcycles Involved: Affected are approximately 3,929 MY 2015 Harley-Davidson model XG500 and model XG750 motorcycles manufactured from March 6, 2014 through August 12, 2014.

III. Noncompliance: Harley-Davidson explains that due to a label design error the numerals on the speedometers of the affected motorcycles are labeled at 20 mph intervals instead of 10 mph intervals as required by table 3, footnote 4, of FMVSS No. 123.

Rule Text: Footnote 4 of FMVSS No. 123 table 3 requires in pertinent part:

. . . Major graduations and numerals appear at 10 mph intervals, minor graduations at 5 mph intervals. . .

V. Summary of HARLEY-DAVIDSON's Analyses: Harley-Davidson stated its belief that the subject noncompliance is inconsequential to motor vehicle safety for the following reasons:

(A) Harley-Davidson stated that FMVSS No. 123 does not require that motorcycles be equipped with speedometers. Specifically, the standard only requires that if motorcycles are in fact equipped with a speedometer, that the speedometer must be marked in 10 mph intervals. This has led Harley-Davidson to believe that NHTSA has implicitly acknowledged that a speedometer is not, itself, necessary for the safe operation of motorcycles, which is consistent with NHTSA's decision in 1982 to rescind FMVSS No. 122 which had required installation of speedometers on all vehicles.

(B) Harley-Davidson also stated that while the labeling error constitutes a technical noncompliance with table 3, footnote 4, of FMVSS No. 123, the noncompliance does not affect any aspect of vehicle performance—braking, steering, acceleration, visibility, etc. The speedometer remains fully visible to the operator and Harley-Davidson believes that the 20 mph numeral intervals adequately provide indication of speed to the rider.

(C) Harley-Davidson believes that the lack of 10 mph numerical labels will not present confusion for riders, as evidenced by the lack of complaints, claims or incidents. Furthermore, they believe that motorcycle owners typically also own and operate other vehicles, such as passenger cars and light trucks, which are not subject to any speedometer graduation requirements and which, in many cases, are equipped with speedometers with 20 mph numeral intervals.

Harley-Davidson has additionally informed NHTSA that beginning on August 22, 2014 it corrected the noncompliance so that all future production of the subject motorcycles comply with FMVSS No. 123.

In summation, Harley-Davidson believes that the described noncompliance of the subject motorcycles is inconsequential to motor vehicle safety, and that its petition, to exempt Harley-Davidson from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject motorcycles that Harley-Davidson no longer controlled at the time it determined that the noncompliance existed. However, any decision on this petition does not relieve vehicle distributors and dealers of the prohibitions on the sale, offer for sale, or introduction or delivery for introduction into interstate commerce of the noncompliant motorcycles under their control after Harley-Davidson notified them that the subject noncompliance existed.

Authority: 49 U.S.C. 30118, 30120: delegations of authority at 49 CFR 1.95 and 501.8.

Jeffrey M. Giuseppe,
Acting Director, Office of Vehicle Safety Compliance.

[FR Doc. 2014-27587 Filed 11-20-14; 8:45 am]

BILLING CODE 4910-59-P